DEPARTMENT OF HEALTH AND HUMAN SERVICES

Notice of Meeting of the Advisory Committee on Minority Health

AGENCY: Office of the Secretary, Office of Public Health and Science, Office of Minority Health.

ACTION: Notice is given of the first meeting.

The Advisory Committee on Minority Health will meet on Thursday, March 29, 2001, from 9 a.m. to 5 p.m., and Friday, March 30, 2001, from 8:30 a.m.-12 Noon. The meeting will be held at the Holiday Inn Georgetown, Mirage II Room, 2101 Wisconsin Avenue, NW., Washington, DC.

The Advisory Committee will discuss racial and ethnic disparities in health, as well as, other related issues.

The meeting is open to the public. There will be an opportunity for public comment which will be limited to five minutes per speaker. Individuals who would like to submit written statements should mail or fax their comments to the Office of Minority Health at least two business days prior to the meeting.

For Further information, please contact Ms. Patricia Norris, Office of Minority Health, Rockwall II Building, 5515 Security Lane, Suite 1000, Rockville, Maryland 20852. Phone: 301-443-5084. Fax: 301-594-0767.

Dated: March 8, 2001.
Nathan Stinson, Jr.,
Deputy Assistant Secretary for Minority Health.

[FR Doc. 01-6327 Filed 3-13-01; 8:45 am]

BILLING CODE 4160-17-M